DEPARTMENT OF TRANSPORTATION

Federal Railroad Administration

[Docket No. FRA-2022-0002-N-2]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before April 4, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Certification of Glazing Materials.

OMB Control Number: 2130-0525.

Abstract: The collection of information is set forth under 49 CFR part 223, which requires the certification and permanent marking of glazing materials by the manufacturer. The manufacturer is also responsible for making available test verification data to railroads and to FRA upon request.

Type of Request: Extension without change (with changes in estimates) of a currently approved collection.

Affected Public: Businesses (railroads and manufacturers of glazing materials).

Form(s): N/A.

Respondent Universe: 704 railroads and 5 manufacturers.

Frequency of Submission: On occasion.

Reporting Burden:

CFR section ¹ | Respondent universe | Total annual responses | Average time per response | Total annual burden hours | Total cost equivalent
|  | (A) | (B) | (C) = A * B | (D) = C * wage rate ²
223.3(c)—Application—Locomotives, passenger cars, and cabooses less than 50 years old and not used exclusively for excursion, educational, recreational, or private transportation purposes | 704 railroads | 400 marked tools (small hammers with instructions) | 30 minutes | 200.00 hours | $11,978.00
223.11(c)—Requirements for existing locomotives built or rebuilt prior to July 1, 1980, equipped with certified glazing in all locomotive cab windows | 704 railroads | 10 renewal waivers | 4 hours | 40.00 hours | 4,609.60
—(d)(1) Locomotive placed in designated service due to a damaged or broken cab window—Stenciled “Designated Service—DO NOT OCCUPY” | 704 railroads | 15 stencilings | 3 minutes | .75 hour | 44.92
—(d)(2) Locomotives removed from service until broken or damaged windows are replaced with certified glazing | Glazing certification for locomotive replacement windows is done at the time of manufacturing. Consequently, there is no additional burden associated with this requirement.
223.13(c)—Requirements for existing cabooses built or rebuilt prior to July 1, 1980, equipped with certified glazing in all windows | 704 railroads | 2 renewal waivers | 4 hours | 8.00 hours | 921.92
—(d) Cabooses removed from service until broken or damaged windows are replaced with certified glazing | Glazing certification for caboose replacement windows is done at the time of manufacturing. Consequently, there is no additional burden associated with this requirement.
223.15(c)—Requirements for existing passenger cars built or rebuilt prior to July 1, 1980, equipped with certified glazing in all windows plus four emergency windows | 704 railroads | 2 renewal waivers | 4 hours | 8 hours | 922
—(d) Passenger cars removed from service until broken/damaged windows are replaced with certified glazing | Glazing certification for passenger car replacement windows is done at the time of manufacturing. Consequently, there is no additional burden associated with this requirement.
Appendix A—(b)(16)—Certification of glazing materials—Manufacturers to certify in writing that glazing material meets the requirements of this section | 5 manufacturers | 10 certifications | 30 minutes | 5.00 hours | 387.20
—(c) Identification and marking of each unit of glazing material | 5 manufacturers | 25,000 marked pieces | 480 pieces per hour | 52.08 hours | 3,119.07
Total | 704 railroads + 5 manufacturers | 25,439 responses | N/A | 314 hours | 21,983

Total Estimated Annual Responses: 25,439.

¹ The current inventory exhibits a total burden of 269 hours while the total burden of this notice is 314 hours. As part of its review of this ICR renewal, FRA determined some of the previous estimates were outdated.

² Throughout this notice, the dollar equivalent cost is derived from the Surface Transportation Board's 2020 Full Year Wage A&B data series using the appropriate employee group hourly wage rate that includes a 75-percent overhead charge.

Total Estimated Annual Burden: 314 hours.

Total Estimated Annual Burden Hour Dollar Cost Equivalent: $21,983.

Title: Disqualification Proceedings.

OMB Control Number: 2130-0529.

Abstract: FRA regulations at 49 CFR part 209, subpart D, explain FRA's responsibilities, and the rights and responsibilities of railroads and railroad employees, regarding disqualification procedures. For example, § 209.331, enforcement of a disqualification order, requires: (a) A railroad employing or formerly employing a disqualified individual to disclose the terms and conditions of the order to the individual's new or prospective employer railroad; (b) a railroad considering hiring an individual in a safety-sensitive position to inquire from the individual's prior employer railroad whether the individual is serving under a disqualification order; and (c) a disqualified individual to inform the individual's employer of the disqualification order, provide a copy of the order to the employer, inform a prospective employer railroad of the disqualification order, and provide a copy of the order.

Type of Request: Extension without change (with changes in estimates) of a currently approved collection.

Affected Public: Businesses.

Form(s): N/A.

Respondent Universe: 86,000 railroad employees and 754 railroads.

Frequency of Submission: On occasion.

Reporting Burden:

CFR section ³ | Respondent universe | Total annual responses | Average time per response | Total annual burden hours | Total cost equivalent
|  | (A) | (B) | (C) = A * B | (D) = C * wage rate
209.307(a)—Reply—Within 30 days after receipt of the notice of proposed disqualification issued under § 209.305, the respondent shall reply in writing to the charges | 86,000 employees | 12 replies | 3 hours | 36.00 hours | $2,224.44
—(b) Reply—Request for an extension | 86,000 employees | 2 requests | 30 minutes | 1.00 hour | 61.79
209.309(a)-(b)—Informal response by railroad employee to a notice of proposed disqualification | The estimated paperwork burden associated with this regulatory requirement is covered under § 209.307.
—(h) Informal response—Request for an extension | 86,000 employees | 4 requests | 30 minutes | 2.00 hours | 123.58
209.331(a)—Enforcement of disqualification order—A railroad that employs or formerly employed an individual serving under a disqualification order must inform other prospective employers | 754 railroads | 1 notification letter + 1 information letter | 30 minutes + 30 minutes | 1 hour | 77.44
—(b) Enforcement of disqualification order—Personnel background check | This is a common practice for the railroad industry to do routine personnel checks on individuals whom they are planning on hiring. Thus, there is no burden associated with this requirement.
—(c) Enforcement of disqualification order—Individual subject to disqualification order to inform employer and provide copy to employer within 5 days after receipt of such order | 86,000 employees | 1 disqualification letter + 1 copy of disqualification letter | 30 minutes + 30 minutes | 1 hour | 61.79
Total | 86,000 employees + 754 railroads | 22 responses | N/A | 41.00 hours | 2,549

Total Estimated Annual Responses: 22.

³ The current inventory exhibits a total burden of 5 hours while the total burden of this notice is 41 hours. As part of its review of this ICR renewal, FRA determined some of the previous estimates were outdated. Additionally, the requirements under §§ 209.311 through 209.327 are exempted from the PRA under 5 CFR 1320.4(a)(2). Since these provisions pertain to an administrative action or investigation, there is no PRA burden associated with these requirements.

Total Estimated Annual Burden: 41 hours.

Total Estimated Annual Burden Hour Dollar Cost Equivalent: $2,549.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2022-02108 Filed 2-1-22; 8:45 am]

BILLING CODE 4910-06-P